ENVIRONMENTAL PROTECTION AGENCY

[EPA-HQ-OPP-2009-1017; FRL-9905-37]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a November 20, 2013 Federal Register Notice of Receipt of Requests from the registrants listed in Table 2 of Unit II. to voluntarily cancel these product registrations. In the November 20, 2013 notice, EPA indicated that it would issue an order implementing the cancellations, unless the Agency received substantive comments within the 30-day comment period that would merit its further review of these requests, or unless the registrants withdrew their requests. The Agency did not receive any comments on the notice. However, the Agency did receive notice via letter dated December 18, 2013 from the registrant Nufarm Americas Inc. to withdraw their voluntary cancellation request for products EPA Reg. Nos. 33688-2 (Nufarm S.A. Technical Butralin) and EPA Reg. No. 33688-4 (Tamex 3EC). Accordingly, EPA hereby issues in this notice a cancellation order granting the requested withdrawals and cancellations. Any distribution, sale, or use of the products subject to this cancellation order is permitted only in accordance with the terms of this order, including any existing stocks provisions. In addition, for pertinent information relating to the pesticide registrations for ME030004 and ME980001 as published in the November 20, 2013 notice, see Unit II. of this notice.

DATES: The cancellations are effective March 13, 2014.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of products registered under FIFRA section 3. These registrations are listed in sequence by registration number in Table 1 of this unit.

The Agency also received notice via letter dated December 18, 2013 from the registrant Nufarm Americas Inc. to withdraw their voluntary cancellation request for products EPA Reg. No. 33688-2 (Nufarm S.A. Technical Butralin) and EPA Reg. No. 33688-4 (Tamex 3EC). Thus, these registrations have been removed from this cancellation order notice. In addition, pesticide registration numbers ME030004 and ME980001 and its contents have been removed from the listing in Table 1. EPA inadvertently listed the pesticide product names Glypro and RH-5992 2F Experimental Insecticide for pesticide registration numbers ME030004 and ME980001, respectively, in the Federal Register of November 20, 2013 (78 FR 69666) (FRL 9902-40). Therefore, this action excludes pesticide registration numbers ME030004 and ME980001 from cancellation at this time. EPA will reissue pesticide product numbers ME030004 and ME980001 for voluntary cancellation in a future Federal Register notice.

Table 1—Product Cancellations
EPA Registration No. | Product name | Chemical name
000264-00619 | Desmedipham Technical | Desmedipham.
000264-00620 | Betanex Herbicide | Desmedipham.
000264-00621 | Betamix Herbicide | Phenmedipham, Desmedipham.
000264-00632 | Betamix Progress | Phenmedipham, Desmedipham, Ethofumesate.
000264-00640 | TPTH Technical | Fentin hydroxide.
000264-00780 | Fenhexamid 50 WDG | Fenhexamid.
000264-00785 | Fenhexamid Technical | Fenhexamid.
000264-00851 | Betanal Forte | Phenmedipham, Desmedipham.
000264-00853 | Betanal Compact | Desmedipham.
000264-00854 | Betanal Power Herbicide | Phenmedipham, Desmedipham, Ethofumesate.
000270-00348 | Adams Caniderm Mist | MGK 264, Piperonyl Butoxide, Pyrethrins (NO INERT USE).
000432-01378 | Imidacloprid 0.72% + Cyfluthrin 0.72% Concentrate Insecticide | Imidacloprid, Cyfluthrin.
002724-00467 | Sandoz 9412 Mousse (Light) | Piperonyl Butoxide, S-Methoprene, Pyrethrins (NO INERT USE).
004787-00054 | Cheminova Nicosulfuron Technical | Nicosulfuron.
005481-00211 | PCNB 10% Granules Soil Fungicide | Pentachloronitrobenzene.
005481-00212 | PCNB 2-E Liquid Emulsifiable Concentrate | Pentachloronitrobenzene.
005481-00214 | PCNB Soil & Turf Liquid Drench | Pentachloronitrobenzene.
005481-00215 | PCNB 2LF Liquid Flowable | Pentachloronitrobenzene.
005481-00442 | PCNB Flowable RTU Seed Protectant | Pentachloronitrobenzene.
005481-00443 | PCNB 2 Flowable Turf & Ornamental Soil Fungicide | Pentachloronitrobenzene.
005481-00444 | PCNB 10G Turf & Ornamental Soil Fungicide | Pentachloronitrobenzene.
005481-00445 | PCNB ST Liquid Flowable Seed Treatment Fungicide | Pentachloronitrobenzene.
005481-00450 | PCNB 20% WDG Soil Fungicide | Pentachloronitrobenzene.
005481-00464 | Parflo 6F | Pentachloronitrobenzene.
005481-00465 | Par-Flo | Pentachloronitrobenzene.
005481-00471 | Win-Flo 6F | Pentachloronitrobenzene.
005481-00472 | Parflo 4F | Pentachloronitrobenzene.
005481-08982 | Terraclor 2EC | Pentachloronitrobenzene.
005481-08984 | Terraclor 10% Granular Soil Fungicide | Pentachloronitrobenzene.
005481-08985 | Greenback Lawn Fungicide | Pentachloronitrobenzene.
005481-08986 | Turfcide Emulsifiable Fungicide | Pentachloronitrobenzene.
005481-08987 | Terraclor Super X Emulsifiable | Pentachloronitrobenzene & Etridiazole.
005481-08991 | Terraclor Flowable Fungicide | Pentachloronitrobenzene.
005481-08993 | Terraclor Super X 18.8G | Pentachloronitrobenzene & Etridiazole.
005481-08994 | Turfcide 15G | Pentachloronitrobenzene.
005481-08995 | Terraclor 15G | Pentachloronitrobenzene.
005481-08997 | Terrazan 24% Emulsifiable Concentrate | Pentachloronitrobenzene.
005481-08998 | Turfcide WDG | Pentachloronitrobenzene.
005481-09033 | Gustafson Terra-Coat L-205N | Pentachloronitrobenzene & Etridiazole.
005481-09035 | Gustafson Terra-Coat LT-2N | Pentachloronitrobenzene.
005481-09039 | Trigran-S Seed Protector | Pentachloronitrobenzene.
005785-00042 | Brom-O-Gas 2% | Methyl bromide (NO INERT USE) & Chloropicrin.
010163-00228 | Mesurol Pro | Methiocarb.
010163-00229 | Mesurol 75% Concentrate | Methiocarb.
010163-00232 | Mesurol 2% Bait For Homeowner Use | Methiocarb.
010163-00252 | Mesurol 75 WDG | Methiocarb.
010466-00037 | Ultra-Fresh 15 | Diiodomethyl p-tolyl sulfone.
044446-00077 | Hub States A-20 Procide Insecticide | Piperonyl Butoxide, Pyrethrins (NO INERT USE).
044446-00078 | V-230 | MGK 264, Piperonyl Butoxide, Pyrethrins (NO INERT USE).
047000-00102 | CT Crack And Crevice | MGK 264, Piperonyl Butoxide, Propoxur, Pyrethrins (NO INERT USE).
047000-00165 | R & M Aqueous Residual Flea & Tick #1 | Permethrin, Pyrethins (NO INERT USE).
047000-00166 | R+M Flea And Tick Dip #1 | MGK 264, Piperonyl Butoxide, Pyrethrins (NO INERT USE).
053883-00270 | CSI Gamma-Cyhalothrin Synergized Topical Insecticide Pour-On | Piperonyl Butoxide, Gamma-Cyhalothrin.
061282-00055 | BioSentry 904 | Alkyl* dimethyl benzyl ammonium chloride *(61% C12, 23% C14, 11% C16, 2.5% C18 2.5% C10 and trace of C8), Alkyl* dimethyl benzyl ammonium chloride *(50%C14, 40%C12, 10%C16), 1-Decanaminium, N-decyl-N,N-dimethyl-, chloride and Tributyltin oxide (NO INERT USE).
061282-00058 | Tributyl Tin Oxide | Tributyltin Oxide (NO INERT USE).
062719-00299 | Frontrow | Cloransulam-methyl, Flumetsulam.
070506-00086 | Agvalue Desmedipham | Desmedipham.
070506-00087 | DES | Desmedipham.
CA-040025 | Riverdale Endurance Herbicide | Prodiamine.
MN-010003 | Treflan H.F.P. | Trifluralin.
MN-100004 | Treflan H.F.P. | Trifluralin.
WA-010015 | Betamix Herbicide | Phenmedipham, Desmedipham.

Table 2 of this unit includes the names and addresses of record for all registrants of the products in Table 1 of this unit, in sequence by EPA company number. This number corresponds to the first part of the EPA registration numbers of the products listed in Table 1 of this unit.

Table 2—Registrants of Canceled Products
EPA Company No. | Company name and address
264 WA-010015 | Bayer CropScience LP, 2 T.W. Alexander Drive, P.O. Box 12014, Research Triangle Park, NC 27709.
270 | Farnam Companies, Inc., 301 West Osborn Road, Phoenix, AZ 85013.
432 | Bayer Environmental Science, A Division of Bayer CropScience LP, 2 T.W. Alexander Drive, P.O. Box 12014, Research Triangle Park, NC 27709.
2724 | Wellmark International, 1501 E. Woodfield Road, Suite 200 West, Schaumburg, IL 60173.
4787 | Cheminova A/ S, Agent: Cheminova Inc., 1600 Wilson Blvd. Suite 700, Arlington, VA 22209.
5481 | Amvac Chemical Corporation, 4695 MacArthur Court, Suite 1250, Newport Beach, CA 92660.
5785 | Great Lakes Chemical Corporation, (A Chemtura Company), 1801 Highway 52 West, P.O. Box 2200, West Lafayette, IN 47906.
10163 | Gowan Company, P.O. Box 5569, Yuma, AZ 85366.
10466 | Thomson Research Associates, Agent: Laird's Regulatory Consultants Inc., Shenstone Est. 17804 Braemar Pl., Leesburg, VA 20176-7046.
44446 | Questvapco Corporation, P.O. Box 624, Brenham, TX 77834.
47000 | Chem-Tech, LTD., 4515 Fleur Dr. #303, Des Moines, IA 50321.
53883 | Control Solutions, Inc., 5903 Genoa-Red Bluff Road, Pasadena, TX 77507-1041.
61282 | Hacco, Inc., 110 Hopkins Drive, Randolph, WI 53956-1316.
62719, MN-010003, MN-100004 | Dow AgroSciences LLC, 9330 Zionsville Rd. 308/ 2E, Indianapolis, IN 46268-1054.
70506 | United Phosphorus, Inc., 630 Freedom Business Center, Suite 402, King of Prussia, PA 19406.
CA-040025 | Nufarm SA, Agent: Nufarm Americas, Inc., 4020 Aerial Center Pkwy. Suite 101, Morrisville, NC 27560.

III. Summary of Public Comments Received and Agency Response to Comments

During the public comment period provided, EPA received no comments in response to the November 20, 2013 Federal Register notice announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II. are canceled. The effective date of the cancellations that are the subject of this notice is March 13, 2014. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of November 20, 2013 (78 FR 69666) (FRL-9902-40). The comment period closed on December 20, 2013.

VI. Provisions for Disposition of Existing Stocks

Existing stocks are those stocks of registered pesticide products which are currently in the United States and which were packaged, labeled, and released for shipment prior to the effective date of the cancellation action. The existing stocks provisions for the products subject to this order are as follows.

A. For Products (044446-00077 and 044446-00078)

The registrant may continue to sell and distribute existing stocks of these products listed in Table 1 of Unit II. until September 9, 2015. Thereafter, the registrant is prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

B. For Product (000264-00621)

The registrant may continue to sell and distribute existing stocks of this product listed in Table 1 of Unit II. until November 20, 2018. Thereafter, the registrant is prohibited from selling or distributing product listed in Table 1, except for export in accordance with FIFRA section 17, or proper disposal. Persons other than the registrant may sell, distribute, or use existing stocks of product listed in Table 1 of Unit II. until existing stocks are exhausted, provided that such sale, distribution, or use is consistent with the terms of the previously approved labeling on, or that accompanied, the canceled product.

C. For all Other Products Identified in Table 1 of Unit II

The registrants may continue to sell and distribute existing stocks of products listed in Table 1 of Unit II. until March 13, 2015, which is 1-year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: March 5, 2014.
Richard P. Keigwin, Jr.,
Director, Pesticide Re-Evaluation Division, Office of Pesticide Programs.

[FR Doc. 2014-05388 Filed 3-12-14; 8:45 am]

BILLING CODE 6560-50-P